DEPARTMENT OF COMMERCE

National Oceanic and Atmospheric Administration

[I.D. 040505B]

Fisheries of the Exclusive Economic Zone Off Alaska; Notice of Requirement to Submit a Historical Catcher Vessel Economic Data Report, Under the Crab Rationalization Program

AGENCY: National Marine Fisheries Service (NMFS), National Oceanic and Atmospheric Administration (NOAA), Commerce.

ACTION: Notice.

SUMMARY: NMFS issues this notice to owners and leaseholders of all vessels listed in this document to submit a Historical Catcher Vessel Economic Data Report (EDR) for each vessel that made at least one crab landing in the Crab Rationalization (CR) fisheries in any of the calendar years 1998, 2001, or 2004. A Historical Catcher Vessel EDR must be submitted for each year 1998, 2001 and 2004, pursuant to the Magnuson-Stevens Fishery Conservation and Management Act (Magnuson-Stevens Act) and applicable regulations. The intent of this action is to provide notice for an evaluation of the economic effects of the CR.

DATES: The completed Historical Catcher Vessel EDR for each vessel identified in Table A in this notice must be received by July 11, 2005.

ADDRESSES: Submit the completed Historical Catcher Vessel EDR to the Pacific States Marine Fisheries Commission, 205 SE Spokane, Suite 100, Portland, OR 97202. A copy of the Historical Catcher Vessel EDR may be downloaded at http://www.fakr.noaa.gov/sustainablefisheries/crab/crfaq.htm. You are advised to carefully follow all instructions on the Historical Catcher Vessel EDR.

FOR FURTHER INFORMATION CONTACT: Geana Tyler by e-mail at: alaska_crab@psmfc.org, or toll free at 1-877-741-8913.

SUPPLEMENTARY INFORMATION: The final rule implementing the CR Program was published in the Federal Register on March 2, 2005 (70 FR 10174). It requires submission of historical economic data from owners and leaseholders of selected catcher vessels that made landings in Bering Sea and Aleutian Islands (BSAI) CR Fisheries from 1998 to 2004. This collection of historical data is for the purpose of evaluating the economic effects of the CR Program.

The regulations implementing the final rule at 50 CFR 680.6(a) states that these catcher vessels will be identified by notice in the Federal Register, and owners and leaseholders of the identified vessels are required to submit the Historical Catcher Vessel EDR based on selected years. Pursuant to the final rule, NMFS has selected calendar years 1998, 2001 and 2004 for submission of a Historical Catcher Vessel EDR. These years are selected to coincide with the three historical EDR years that will be submitted by BSAI crab catcher processors, inshore stationary floating processors, and shoreside processors. In comparison with other selection alternatives, such as a probability sample or other combinations of years, matching identical years across all BSAI crab industry sectors will allow a greater number of observations across the entire industry and will increase the probability that processing data will be sufficiently matched with data from harvesters delivering to the processors.

A vessel owner or leaseholder of a catcher vessel listed in the Table A, for this notice, must submit a Historical Catcher Vessel EDR for all three years to the Pacific States Marine Fisheries Commission (see ADDRESSES). According to Alaska Department of Fish and Game fish ticket data, these vessels have made at least one landing in each of the qualifying years. A copy of the Historical Catcher Vessel EDR may be downloaded at http://www.fakr.noaa.gov/sustainablefisheries/crab/crfaq.htm. You are advised to carefully follow all instructions on the EDR.

Classification

The Assistant Administrator for Fisheries, NOAA (AA) finds good cause to waive the requirement to provide prior notice and opportunity for public comment pursuant to the authority set forth at 5 U.S.C. 553(b)(B) as such requirement is impracticable and contrary to the public interest. This requirement is impracticable and contrary to the public interest as any delay in publishing this list of vessels would prevent some owners and leaseholders of these vessels from qualifying for issuance of crab Individual Fishing Quota (IFQ). The Historical Catcher Vessel EDR must be submitted as a condition of a complete application for IFQ. These applications must be submitted to NMFS in July 2005 so IFQ holders may participate in the golden king crab fishery which is scheduled to open in August 2005.

The AA also finds good cause to waive the 30-day delay in the effective date of this action under 5 U.S.C. 553(d)(3). This finding is based upon the reasons provided above for waiver of prior notice and opportunity for public comment.

This notice contains a collection-of -information requirement subject to the Paperwork Reduction Act and which has been approved by OMB under control number 0648-0518.

This notice has been determined to be not significant for purposes of Executive Order 12866.

Authority: 16 U.S.C. 1801 et seq.

Dated: April 6, 2005.
Alan D. Risenhoover,
Acting Director, Office of Sustainable Fisheries, National Marine Fisheries Service.

Table A. Vessels listed by Alaska Department of Fish and Game Vessel Identification Number that are Required to Submit an Historical Catcher Vessel, Crab Economic Data Report (EDR) for Year 1998, 2001 and 2004.
ADF&G Vessel Identification Number¹
00002 | 00134 | 04067 | 09187 | 21591 | 29596 | 34053 | 35771
00003 | 00200 | 04100 | 09206 | 21610 | 29923 | 34184 | 35833
00004 | 00222 | 04147 | 09297 | 21612 | 29962 | 34189 | 35844
00007 | 00303 | 04252 | 09789 | 21630 | 30100 | 34191 | 35949
00012 | 00524 | 05959 | 10167 | 21652 | 30187 | 34260 | 35966
00013 | 00951 | 05992 | 11022 | 21730 | 30601 | 34374 | 35977
00016 | 00958 | 06101 | 11173 | 21738 | 31126 | 34434 | 36045
00022 | 00960 | 06152 | 12110 | 21745 | 31428 | 34517 | 36047
00025 | 00961 | 06205 | 12121 | 21769 | 31438 | 34635 | 36093
00030 | 00963 | 06369 | 12128 | 21802 | 31458 | 34855 | 36100
00033 | 00964 | 06374 | 12512 | 21809 | 31623 | 34905 | 36134
00034 | 00965 | 06434 | 12549 | 21869 | 31672 | 34919 | 36267
00036 | 00966 | 06440 | 13889 | 21881 | 31787 | 34931 | 36322
00037 | 00986 | 06448 | 14742 | 21900 | 31792 | 35199 | 36361
00039 | 00987 | 06459 | 14759 | 21924 | 31944 | 35233 | 36379
00040 | 00988 | 06460 | 14767 | 21927 | 31995 | 35265 | 36546
00041 | 00991 | 06485 | 14896 | 21948 | 31999 | 35277 | 36800
00043 | 00996 | 06666 | 14963 | 22293 | 32039 | 35286 | 36822
00052 | 00997 | 06700 | 16887 | 22406 | 32282 | 35306 | 37210
00053 | 01112 | 06710 | 17076 | 22461 | 32320 | 35318 | 37241
00055 | 01792 | 06858 | 17495 | 22777 | 32373 | 35418 | 37316
00058 | 01803 | 06900 | 17745 | 23105 | 32415 | 35486 | 37374
00064 | 01837 | 06946 | 17768 | 23460 | 32424 | 35522 | 37619
00065 | 01840 | 07011 | 17770 | 24194 | 32473 | 35553 | 37677
00066 | 03404 | 07082 | 18208 | 24923 | 32554 | 35563 | 37887
00067 | 03503 | 07090 | 19354 | 25041 | 32660 | 35629 | 38121
00077 | 03525 | 07189 | 20134 | 25187 | 32668 | 35630 | 38182
00097 | 03535 | 08225 | 20334 | 25216 | 32716 | 35639 | 38243
00101 | 03645 | 08411 | 20363 | 25970 | 32728 | 35640 | 38342
00103 | 03716 | 08500 | 20502 | 26280 | 32868 | 35679 | 38400
00104 | 03718 | 08653 | 20556 | 26928 | 33100 | 35683 | 38415
00120 | 03725 | 08668 | 20734 | 27326 | 33502 | 35687 | 38547
00121 | 03800 | 08788 | 20745 | 27790 | 33696 | 35733 | 38641
00131 | 04021 | 09069 | 21312 | 29407 | 33704 | 35767 | 38727
38728 | 40921 | 43765 | 48068 | 55640 | 59340 | 61321 | 63478
38923 | 40924 | 43809 | 48173 | 55803 | 59483 | 61324 | 64128
38972 | 40951 | 43824 | 48215 | 55849 | 59521 | 61333 | 64609
38999 | 40969 | 43873 | 48350 | 55854 | 59569 | 61351 | 64667
39002 | 41021 | 43943 | 49100 | 56049 | 59578 | 61352 | 65328
39156 | 41035 | 44107 | 49141 | 56111 | 59607 | 61395 | 65329
39165 | 41044 | 44487 | 49317 | 56126 | 59634 | 61432 | 65331
39191 | 41312 | 44575 | 49617 | 56140 | 59686 | 61505 | 65465
39197 | 41347 | 44658 | 49892 | 56492 | 59782 | 61565 | 65504
39198 | 41401 | 44804 | 50142 | 56986 | 59967 | 61571 | 65577
39201 | 41421 | 44829 | 50183 | 56992 | 60100 | 61605 | 66023
39349 | 41444 | 44971 | 50501 | 57469 | 60179 | 61657 | 66700
39424 | 41588 | 45060 | 51347 | 57477 | 60210 | 61674 | 67511
39504 | 41628 | 45066 | 51672 | 57660 | 60217 | 61679 | 67659
39513 | 41715 | 45140 | 51752 | 57706 | 60250 | 61689 | 67870
39737 | 41774 | 45416 | 51841 | 57709 | 60484 | 61718 | 68008
39812 | 41906 | 45479 | 51978 | 57822 | 60523 | 61791 | 68599
39858 | 41999 | 45643 | 52037 | 57847 | 60650 | 61826 | 68869
39860 | 42069 | 45706 | 52052 | 57880 | 60804 | 61954 | 68870
39926 | 42079 | 45921 | 52119 | 57934 | 60860 | 62288 | 68913
39946 | 42110 | 45949 | 53375 | 57971 | 60865 | 62343 | 69024
40071 | 42144 | 45978 | 53446 | 58024 | 60902 | 62424 | 69553
40217 | 42166 | 46300 | 53779 | 58039 | 61075 | 62436 | 69597
40250 | 42234 | 46309 | 53800 | 58129 | 61111 | 62439 | 69765
40252 | 42384 | 46331 | 53810 | 58133 | 61119 | 62505 | 70030
40309 | 42389 | 46496 | 53843 | 58184 | 61127 | 62841 | 70135
40484 | 42599 | 46553 | 54642 | 58239 | 61154 | 62844 | 70221
40555 | 42736 | 46701 | 54865 | 58330 | 61160 | 62901 | 70492
40749 | 43046 | 46854 | 54956 | 58776 | 61182 | 62920 | 70770
40762 | 43080 | 47647 | 55111 | 58966 | 61186 | 62922 | 71174
40817 | 43268 | 47790 | 55123 | 58967 | 61223 | 63000 | 71626
40837 | 43384 | 47826 | 55124 | 59109 | 61244 | 63163 | 72318
40840 | 43541 | 47839 | 55131 | 59181 | 61261 | 63219 | 72847
40917 | 43552 | 47952 | 55194 | 59191 | 61278 | 63361 | 73557
¹Vessel ID for listed year (1998, 2001, 2004) from Alaska Department of Fish and Game (ADF&G) Vessel File, based upon at least one landing in ADF&G Fish Ticket File

[FR Doc. E5-1651 Filed 4-8-05; 8:45 am]

BILLING CODE 3510-22-S